DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995, this notice announces the intention of the National Agricultural Statistics Service (NASS) to seek approval to conduct a new information collection, the Pesticide Safety Practices Among Pennsylvania Farms Survey.

DATES: Comments on this notice must be received by July 8, 2013 to be assured of consideration.

ADDRESSES: You may submit comments, identified by docket number 0535-NEW, Pesticide Safety Practices Among Pennsylvania Farms Survey by any of the following methods:

• Email: ombofficer@nass.usda.gov. Include docket number and title above in the subject line of the message.

• Fax: (202)720-6396.

• Mail: Mail any paper, disk, or CD-ROM submissions to: David Hancock, NASS Clearance Officer, U.S. Department of Agriculture, Room 5336A, Mail Stop 2024, South Building, 1400 Independence Avenue SW., Washington, DC 20250-2024.

• Hand Delivery/Courier: Hand deliver to: David Hancock, NASS Clearance Officer, U.S. Department of Agriculture, Room 5336, South Building, 1400 Independence Avenue SW., Washington, DC 20250-2024.

FOR FURTHER INFORMATION CONTACT: Joseph T. Reilly, Associate Administrator, National Agricultural Statistics Service, U.S. Department of Agriculture, (202) 720-4333.

SUPPLEMENTARY INFORMATION:

Title: Pesticide Safety Practices Among Pennsylvania Farms Survey.

OMB Control Number: 0535-NEW.

Type of Request: Intent to Seek Approval to Conduct a New Information Collection.

Abstract: The primary objectives of the National Agricultural Statistics Service (NASS) are to prepare and issue state and national estimates of crop production, livestock production, economic statistics, and environmental statistics related to agriculture and to conduct the Census of Agriculture and its follow-on surveys. This project is conducted as a cooperative effort with the National Institute for Occupational Safety and Health (NIOSH) National Personal Protective Technology Laboratory (NPPTL). Funding for this pilot survey is being provided by NIOSH. The pilot survey will be conducted in the fall of 2014, referencing the growing season for 2014.

NASS will request approval from the Office of Management and Budget (OMB) for the Pesticide Safety Practices Among Pennsylvania Farms Survey.

The Pesticide Safety Practices Among Pennsylvania Farms Survey will use a sampling universe defined as crop growers in Pennsylvania. To be eligible for study, they must have personally applied herbicides, growth regulators, or any other type of pesticides in the past 6 months using a method other than helicopters, airplanes, or equipment pulled by enclosed cab tractors or ATVs. The primary goals of the project are: (1) to determine the extent to which Pennsylvania crop growers use appropriate personal protective equipment (PPE) practices; appropriate PPE practices include the correct type of PPE and using it properly, (2) when applicable, to identify the factors that cause incorrect PPE practices, and (3) when applicable, identify the factors that would motivate a crop grower to start using correct practices. Findings will lead to improved training efforts and other actions to improve PPE practices among Pennsylvania crop growers. In the future, this survey may be administered in other states depending on the results and future funding.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-13) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33376.

Estimate of Burden: This survey will be conducted in a two step process. First, the screening phase will consist of an information letter, blank screening form, and a postage paid return envelope, which will be mailed out to the selected sample (approximately 3,000 crop growers). Finally, we will select approximately 300 operations from the screening phase to conduct the Pesticide Safety Practices Among Pennsylvania Farms Survey.

Public reporting burden for collecting this information is estimated to average 15 minutes per respondent for a completed screening questionnaire, and an average of 50 minutes per respondent for the follow-up survey for the subsample. NASS will attempt to achieve a minimum response rate of 80% completed reports for each phase of the survey. Additional burden will be added to account for the pre-survey materials.

Respondents: Pennsylvania crop producers who applied pesticides in the past 6 months using a method other than helicopters, airplanes, or equipment pulled by enclosed cab tractors or ATVs.

Estimated Number of Respondents: 3,000.

Estimated Total Annual Burden on Respondents: 1,100 hours.

Copies of this information collection and related instructions can be obtained without charge from the NASS OMB Clearance Officer, at (202) 720-2248.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, April 24, 2013.
Joseph T. Reilly,
Associate Administrator.

[FR Doc. 2013-10710 Filed 5-6-13; 8:45 am]

BILLING CODE 3410-20-P